DEPARTMENT OF THE INTERIOR

Fish and Wildlife Service

50 CFR Part 17

[Docket No. FWS-R1-ES-2023-0123; FF09E21000 FXES1111090FEDR 234]

Endangered and Threatened Wildlife and Plants; Species Status Assessment for the Northern California-Southern Oregon Distinct Population Segment of Fisher

AGENCY: Fish and Wildlife Service, Interior.

ACTION: Request for new information.

SUMMARY: We, the U.S. Fish and Wildlife Service (Service), notify the public that we are requesting new information to develop a species status assessment (SSA) for the Northern California-Southern Oregon (NCSO) distinct population segment (DPS) of fisher (Pekania pennanti). We plan to initiate a status review to determine whether the NCSO DPS of fisher is warranted for listing as an endangered or threatened species under the Endangered Species Act of 1973, as amended (Act). We request new information since 2019 regarding the NCSO DPS of fisher to inform our SSA. Per a court-approved settlement agreement, we will submit a new final listing determination to the Federal Register on or before August 21, 2025.

DATES: To ensure our full consideration and incorporation of new information, the Service requests submittal of new information by October 26, 2023. Information submitted electronically using the Federal eRulemaking Portal (see ADDRESSES, below) must be received by 11:59 p.m. eastern time on the closing date.

ADDRESSES: You may submit new information by one of the following methods:

(1) Electronically: Go to the Federal eRulemaking Portal: https://www.regulations.gov. In the Search box, enter FWS-R1-ES-2023-0123, which is the docket number for this rulemaking. Then, click on the Search button. On the resulting page, in the panel on the left side of the screen, under the Document Type heading, check the Proposed Rule box to locate this document. You may submit information by clicking on “Comment.”

(2) By hard copy: Submit by U.S. mail to: Public Comments Processing, Attn: FWS-R1-ES-2023-0123, U.S. Fish and Wildlife Service, MS: PRB/3W, 5275 Leesburg Pike, Falls Church, VA 22041-3803.

We request that you send new information only by the methods described above. We will post all new information received on https://www.regulations.gov. This generally means that we will post any personal information you provide us (see Information Requested, below, for more information).

FOR FURTHER INFORMATION CONTACT: Jim Thrailkill, Field Supervisor, Roseburg Field Office, U.S. Fish and Wildlife Service, 777 NW Garden Valley Boulevard, Roseburg, Oregon 97471; email: jim_thrailkill@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

In 2014, we proposed to list the West Coast DPS of fisher (encompassing all fishers throughout California, Oregon, and Washington) as threatened under the Act (79 FR 60419, October 7, 2014). However, we withdrew that proposed rule on April 18, 2016 (81 FR 22710). The withdrawal was subsequently challenged by the Center for Biological Diversity, Environmental Protection Information Center, Klamath-Siskiyou Wildlands Center, and the Sierra Forest Legacy. The District Court for the Northern District of California remanded the Service's final determination for reconsideration and preparation of a new determination. We reopened the comment period on January 31, 2019 (84 FR 645), followed by publication of a revised proposed listing rule on November 7, 2019, based on new information and a reevaluation of the best available information, including reconfiguration of multiple DPSs within the area previously described as a single DPS called the West Coast DPS of fisher (84 FR 60278). The new delineation of DPSs included two original native populations (the NCSO and Southern Sierra Nevada (SSN) DPSs) and three reintroduced populations (Northern Sierra Nevada, Southern Oregon Cascades, and the Olympic Peninsula). On May 15, 2020, we issued a final rule that added the SSN DPS as an endangered species to the List of Endangered and Threatened Wildlife, and we presented our finding that the NCSO DPS did not warrant listing under the Act (85 FR 29532).

On September 13, 2022, the Center for Biological Diversity, Environmental Protection Information Center, and Klamath-Siskiyou Wildlands Center filed a complaint in the United States District Court, Northern District of California, alleging that our determination on the NCSO DPS of fisher violated the Act. Per the stipulated settlement agreement dated June 7, 2023, which the court approved on June 8, 2023, the Service will submit to the Office of the Federal Register by August 21, 2025, a new 12-month finding as to whether listing the NCSO DPS of fisher as an endangered or threatened species is warranted under the Act. The terms of the settlement agreement include publication of this document “as soon as practicable” to announce a public comment period seeking new information to assist with reevaluation of the NCSO DPS of fisher and preparation of a new determination.

Additional information on Federal actions concerning the DPSs of fisher are outlined in the following Federal Register documents: a final rule of May 15, 2020 (85 FR 29532) and a proposed rule of October 7, 2014 (79 FR 60419).

Information Requested

Although an analysis and biological report were completed in 2016 for fishers throughout Washington, Oregon, and California (Service 2016a, entire), a scientific analysis using the SSA framework (which considers the principles of resiliency, redundancy, and representation; Service 2016b, entire) has not been developed for the NCSO DPS of fisher. New information from 2016 through 2019 was incorporated into our May 15, 2020, final rule (85 FR 29532). We will reevaluate the information already included in our files, along with any new information received, for an SSA. At this time, we are seeking new information that has become available after 2019 regarding the NCSO DPS of fisher. The range of this DPS for which we seek information is approximately southwest Oregon (west of Klamath Falls and south of approximately the Rogue River), the northern California coast as far south as Point Reyes National Seashore and inland through the Northern Coast Ranges of California, the Klamath-Siskiyou Mountains, and continuing east through the Southern Cascades (excluding the Sacramento Valley). This geographic area includes the following counties for new information: Coos, Curry, Douglas, Josephine, Jackson, Klamath, and Lane Counties in southern Oregon; and Butte, Del Norte, Humboldt, Lake, Mendocino, Plumas, Shasta Siskiyou, Tehama, and Trinity Counties in northern California. We will consider information from all interested parties. We are particularly interested in information concerning:

(1) The historical and current status, range, distribution, and population size of this DPS, including information on denning sites. This includes information regarding population trend studies or occurrence data specific to this DPS, information regarding areas that have been surveyed compared to areas that have not been surveyed, and all positive and negative survey results to help us assess distribution and population trends.

(2) The biological or ecological requirements for fishers, as well as information on population connectivity between occurrences of fishers across the NCSO DPS range.

(3) Anticoagulant and neurotoxicant rodenticides, and other toxicants, including law enforcement information and trend data.

(4) The threat of wildfire, including studies or information pertaining to current and future trends in wildfire frequency and severity, as well as information pertaining to the response of fishers to post-fire landscapes in the NCSO DPS of fisher.

(5) Changes in low- to mid-elevation forests within the range of the NCSO DPS of fisher, including scope and extent of vegetation management on Federal and non-Federal lands.

(6) The projected and reasonably likely impacts of climate change on the NCSO DPS of fisher and its habitat, including impacts to reproductive habitat.

(7) Any effects associated with population size and isolation relevant to the NCSO DPS of fisher (e.g., low reproductive capacity, inbreeding depression, demographic and environmental stochasticity), and information on genetic diversity on the fisher.

(8) Any conservation efforts designed to benefit fishers and their habitat within the NCSO DPS that have been planned or implemented after 2019, including both current, ongoing, or planned activities and possible effects of these activities on the species or its habitat.

Please include sufficient information with your submission (such as scientific journal articles or other publications) to allow us to verify any scientific or commercial information you include.

You may submit information by one of the methods listed in ADDRESSES. We request that you send information only by the methods described in ADDRESSES.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov. Information and materials we receive will be available for public inspection on https://www.regulations.gov at Docket No. FWS-R1-ES-2023-0123.

Authors

The primary authors of this document are the staff members of the Fish and Wildlife Service's Species Assessment Team.

Authority

The authority for this action is the Endangered Species Act of 1973, as amended (16 U.S.C. 1531 et seq.).

Martha Williams,
Director, U.S. Fish and Wildlife Service.

[FR Doc. 2023-20826 Filed 9-25-23; 8:45 am]

BILLING CODE 4333-15-P